DEPARTMENT OF HEALTH AND HUMAN SERVICES

Centers for Disease Control and Prevention

Reorganization of the National Center for Chronic Disease Prevention and Health Promotion

AGENCY: Centers for Disease Control and Prevention (CDC), the Department of Health and Human Services (HHS).

ACTION: Notice.

SUMMARY: CDC has modified its structure. This notice announces the reorganization of the National Center for Chronic Disease Prevention and Health Promotion (NCCDPHP). NCCDPHP has realigned the Division of Adolescent and School Health from the National Center National Center for HIV, Viral Hepatitis, STD, and TB Prevention (NCHHSTP).

DATES: This reorganization was approved by the Director of CDC on, September 29, 2023 and became effective, September 29, 2023.

FOR FURTHER INFORMATION CONTACT: D'Artonya Graham, Office of Strategic Business Initiatives, Office of the Chief Operating Officer, Office of the Director, Centers for Disease Control and Prevention, 1600 Clifton Road NE, MS TW-2, Atlanta, GA 30329; Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 44359-44363, dated July 12, 2023) is amended to reflect the reorganization of the National Center for Chronic Disease Prevention and Health Promotion, Centers for Disease Control and Prevention. Specifically, the changes are as follows:

I. Under part C, section C-B, Organization and Functions, delete the following:

• Division of Adolescent and School Health (CKG)

• Office of the Director (CKG1)

• Program Development and Services Management (CKGB)

• Research Application and Evaluation Branch (CKGC)

• School-Based Surveillance Branch (CKGD)

• Healthy Schools Branch (CLKE)

II. Under part C, section C-B, Organization and Functions, after the Division of Population Health (CLK) insert the following organizational units:

• Division of Adolescent and School Health (CLL)

• Office of the Director (CLL1)

• Program Development and Services Management (CLLB)

• Research Application and Evaluation Branch (CLLC)

• School-Based Surveillance Branch (CLLD)

III. Under part C, section C-B, Organization and Functions, insert the following:

Division of Adolescent and School Health (CLL). (1) in cooperation with other CDC components, State, local, Territorial, Tribal agencies, and national nongovernmental organizations administers and supports strategies in school settings to address health outcomes for priority health risks and related health behaviors, including but not limited to the promotion of healthy eating, physical activity, sexual health, and tobacco-free lifestyles, among school-aged populations; (2) provides consultation, training, educational, and other technical services to assist State, Territorial, and local education and health departments, Tribal governments, national nongovernmental organizations, and other societal institutions to implement a coordinated approach to school health and evaluate policy, systems, and environmental changes and interventions to reduce priority health risks among youth and improve the health of students and school staff; (3) identifies and monitors priority health risks and related health behaviors among school-aged populations that result in obesity, smoking, physical inactivity, chronic disease, the transmission of HIV, other sexually transmitted infections, and unintended pregnancy; (4) in coordination with other CDC components, supports international, national, State, Tribal, and local school-based surveillance systems to monitor priority health risk behaviors and health outcomes among school-aged populations, along with the policies, programs, and practices schools implement to address them; (5) conducts evaluation research to expand knowledge of the determinants of priority health risk behaviors among school-aged populations and to identify effective policies and practices that schools and other societal institutions can implement to reduce priority health risks; (6) develops and disseminates guidelines and tools to help schools and other societal institutions apply research synthesis findings to reduce priority health risks among school-aged populations; (7) supports implementation and evaluation of a coordinated approach to school health and best practices in (a) health education, (b) physical education and other physical activity programs, (c) nutrition services, (d) school health services, (e) school counseling, psychological, and social services, (f) health promotion for staff, (g) family and community involvement, and (h) school health and safety policies and environment; (8) provides information to the scientific community and the general public through publications and presentations; (9) in accomplishing the functions listed above, collaborates with (a) other components of CDC and HHS, (b) the U.S. Department of Education, U.S. Department of Agriculture, and other Federal agencies, (c) national professional, voluntary, and philanthropic organizations, (d) international agencies, (e) and other societal institutions and organizations, as appropriate; and (10) assists other nations in reducing chronic disease-related health risks among school-aged populations in implementing and improving school health programs.

Office of the Director (CLL1). (1) plans, directs, and evaluates the activities of the division; (2) provides national leadership and guidance in policy formulation and program planning and development to reduce health risks among school-aged populations and improve school health programs, policies, and practices; (3) provides leadership and guidance for program management and operations; (4) provides leadership in coordinating activities between the division and other NCCDPHP divisions in addressing priority health risks among school-aged populations; (5) provides leadership in coordinating school-based activities throughout CDC, including with the National Center for HIV, Viral Hepatitis, STD, and TB Prevention, National Center for Injury Prevention and Control, and National Center on Birth Defects and Developmental Disabilities; (6) maintains a strong focus on school-aged populations' health risks and health-related behaviors, including sexual risk-taking and teen pregnancy; (7) promotes collaboration with other governmental and nongovernmental organizations for the development of policies and evaluation methods; (8) coordinates division responses to inquiries from national and local communications media; (9) implements science and evidence-based communication programs, initiatives, and strategies that target State and local health and education partners, media, national organizations, and consumers; (10) systematically translates, promotes, and disseminates science-based messages through multiple communication products and channels; (11) implements effective internal communication strategies targeting the division and other CDC staff; (12) oversees creation, production, promotion, and dissemination of materials designed for use by the media, partners, national organizations, and consumers, including press releases, brochures, fact sheets, toolkits, other print and electronic materials, and ensures appropriate clearance of these materials; (13) assists in the preparation of speeches and congressional testimony for the division director, the center director, and other public health officials; (14) provides program services support in extramural programs management; and (15) collaborates, as appropriate, with other Federal agencies in carrying out these activities.

Program Development and Services Branch (CLLB). (1) provides consultation, training, educational, and other technical services to assist State, Territorial, and local education and health departments, Tribal governments, national nongovernmental organizations, and other societal institutions to implement and improve policy, systems, and environmental changes and interventions to reduce priority health risks among the school-aged population and improve the health of students and school staff; (2) uses the results of surveillance and evaluation research and research syntheses to improve the impact of school- and community-based interventions designed to reduce priority health risks among school-aged populations to promote changes in behaviors such as obesity, smoking, physical inactivity, chronic disease, the transmission of HIV, other sexually transmitted infections, and unintended pregnancy; (3) provides leadership to the nationwide network of leaders in school health to promote linkages between State and local public health departments with education agencies; (4) assesses training and technical assistance needs and develops strategies to build the capacity of funded partners, other external partners, and division staff; (5) strengthens efforts of national, State, and local programs to provide high quality professional development services to support school-based chronic disease prevention policies, programs, and practices; and (6) provides consultation to other divisions within NCCDPHP and CDC on how schools work and how to foster effective collaboration between public health and education departments.

Research Application and Evaluation Branch (CLLC). (1) conducts evaluation research to expand knowledge of the determinants of priority health risk behaviors among school-aged populations and to identify effective policies, systems, environmental changes, interventions and practices that schools and other societal institutions can implement to reduce priority health risks; (2) synthesizes and disseminates research findings to improve the impact of interventions designed to reduce priority sexual health risks among school-aged populations, including those designed to address cross-cutting issues and protective factors; (3) synthesizes and translates scientific research to develop and disseminate guidance, tools, and resources to help schools and other societal institutions apply research synthesis findings to reduce priority health risks; and (4) in collaboration with other NCCDPHP divisions and with other governmental and nongovernmental organizations, develops and promotes evidence-based policies, practices, and evaluation methods.

School-Based Surveillance Branch (CLLD). (1) maintains international, national, State, Tribal, and local school-based surveillance systems to identify and monitor priority health risk behaviors and health outcomes; (2) maintains and supports national, State, Tribal, and local surveillance systems to monitor health risk behaviors among school-aged populations along with the school health policies, programs, and practices designed to address priority health risk behaviors and health outcomes; (3) designs, develops, and disseminates a wide variety of products describing school-based surveillance data; (4) provides national leadership and comprehensive technical assistance to State and local education and health agencies, Tribal governments, and ministries of health and education in the planning and implementation of school-based surveillance systems; (5) manages extramural funding of school-based surveillance systems; and (6) collaborates with other branches, divisions, and offices in NCCDPHP and other components throughout CDC to accomplish the functions listed above.

IV. Under part C, section C-B, Organization and Functions, retitle the following organizational components:

• Strategic Business Initiatives (CAJT) to the Office of Strategic Business Initiatives (CAJT) within the Office of the Chief Operating Officer

• Office of the Deputy Director of Management and Operations (CAK13) to the Office of the Deputy Director for Management and Operations (CAK13) within the Office of Public Health Data, Surveillance, and Technology

• Management and Operations Office (CAK133) to the Office of Management and Operations (CAK133) within the Office of Public Health Data, Surveillance, and Technology

V. Under part C, section C-B, Organization and Functions, delete the respective mission or functional statements for and replace with the following:

Office of the Director (CAKC1). (5) ensures the OPHDST strategy is executed in the Investigate and Respond Division and aligned with overall CDC and the Public Health Data Strategy goals; (9) identifies dependencies and coordinates synergies between Investigate and Respond Division and OPHDST offices and divisions.

Office of the Director (CAKD1). (9) identifies dependencies and coordinates synergies between Inform and Disseminate Division, OPHDST offices and divisions, and other CDC programs.

Data Standards Branch (CAKEB). (5) collaborates with the Technology Strategy Office to develop and adopt interoperability standards for systems and health information technology functional services.

Office of the Director (CAKG1). (8) identifies dependencies and coordinates synergies between the Platforms Division and OPHDST offices and divisions; (9) ensures communications are aligned within OPHDST/OD and shared across the Platforms Division.

Delegations of Authority

All delegations and redelegations of authority made to officials and employees of affected organizational components will continue in them or their successors pending further redelegation, provided they are consistent with this reorganization.

(Authority: 44 U.S.C. 3101.)

Robin Bailey, Jr.,
Chief Operating Officer, Centers for Disease Control and Prevention.

[FR Doc. 2023-22160 Filed 10-4-23; 8:45 am]

BILLING CODE 4163-18-P